DEPARTMENT OF COMMERCE

International Trade Administration

[A-580-810, A-583-815

Welded ASTM A-312 Stainless Steel Pipe From South Korea and Taiwan: Continuation of Antidumping Duty Orders

AGENCY: Enforcement and Compliance, International Trade Administration, Department of Commerce.

SUMMARY: The Department of the Commerce (the Department) and the International Trade Commission (the ITC) have determined that revocation of the antidumping duty (AD) orders on certain welded stainless steel pipe from South Korea and Taiwan would likely lead to continuation or recurrence of dumping and material injury to an industry in the United States. Therefore, the Department is publishing a notice of continuation for these AD orders.

DATES: June 30, 2017.

FOR FURTHER INFORMATION CONTACT: Jacqueline Arrowsmith, AD/CVD Operations, Office VII, Enforcement and Compliance, International Trade Administration, U.S. Department of Commerce, 1401 Constitution Avenue NW., Washington, DC 20230; telephone: (202) 482-5255.

SUPPLEMENTARY INFORMATION:

Background

On December 30, 1992, the Department of Commerce (the Department) published the antidumping duty orders on welded ASTM A-312 stainless steel pipe (WSSP) from South Korea and Taiwan. On November 1, 2016, the Department published a notice of initiation of its fourth five-year (sunset) reviews of the antidumping duty orders on welded ASTM A-312 stainless steel pipe from South Korea and Taiwan.¹

¹ See Initiation of Five-Year (“Sunset”) Reviews, 81 FR 75808 (November 1, 2016).

As a result of these sunset reviews, the Department determined that revocation of the AD orders on WSSP from South Korea and Taiwan would likely lead to continuation or recurrence of dumping, and therefore, notified the U.S. International Trade Commission (ITC) of the magnitude of the margins likely to prevail should these orders be revoked.²

² See Welded ASTM A-312 Stainless Steel Pipe From South Korea and Taiwan: Final Results of the Expedited Fourth Sunset Reviews of the Antidumping Duty Orders, 82 FR 12798 (March 7, 2017) and accompanying Issues and Decision Memorandum.

On May 17, 2017, the ITC published its determination that revocation of the AD orders on WSSP from South Korea and Taiwan would likely lead to continuation or recurrence of material injury to an industry in the United States within a reasonably foreseeable time, pursuant to section 751(C) of the Act.³

³ See Certain Welded Stainless Steel Pipe From Korea and Taiwan; Determinations, 94 FR 22674 (May 17, 2017).

Scope of the Orders

The merchandise subject to the antidumping duty orders is welded austenitic stainless steel pipe that meets the standards and specifications set forth by the American Society for Testing and Materials (ASTM) for the welded form of chromium-nickel pipe designated ASTM A-312. The merchandise covered by the scope of the orders also includes austenitic welded stainless steel pipes made according to the standards of other nations which are comparable to ASTM A-312.

WSSP is produced by forming stainless steel flat-rolled products into a tubular configuration and welding along the seam. WSSP is a commodity product generally used as a conduit to transmit liquids or gases. Major applications for steel pipe include, but are not limited to, digester lines, blow lines, pharmaceutical lines, petrochemical stock lines, brewery process and transport lines, general food processing lines, automotive paint lines, and paper process machines. Imports of WSSP are currently classifiable under the following Harmonized Tariff Schedule of the United States (HTSUS) subheadings: 7306.40.5005, 7306.40.5015, 7306.40.5040, 7306.40.5062, 7306.40.5064, and 7306.40.5085.⁴ Although these subheadings include both pipes and tubes, the scope of the antidumping duty orders is limited to welded austenitic stainless steel pipes. The HTSUS subheadings are provided for convenience and customs purposes. However, the written description of the scope of the orders is dispositive.

⁴ HTS 7306.40.5065 previously listed in the scope of the order for this product is no longer a valid reporting number, having been replaced by 7306.40.6052 and 7306.40.6054 as of January 1, 1996.

Continuation of the Orders

As a result of the determinations by the Department and the ITC that revocation of the antidumping duty orders would likely lead to continuation or recurrence of dumping and material injury to an industry in the United States, pursuant to section 751(d)(2) of the Act, the Department hereby orders the continuation of the antidumping duty orders on welded ASTM A-312 stainless steel pipe from South Korea and Taiwan.

U.S. Customs and Border Protection will continue to collect antidumping duty cash deposits at the rates in effect at the time of entry for all imports of subject merchandise. The effective date of the continuation of these orders will be the date of publication in the Federal Register of the notice of continuation of the antidumping duty orders on WSSP from Korea and Taiwan. Pursuant to section 751(c)(2) of the Act, the Department intends to initiate the sunset reviews of these orders not later than 30 days prior to the fifth anniversary of the effective date of continuation.

These sunset reviews and this notice are in accordance with section 751(c) of the Act and published pursuant to section 777(i)(1) of the Act.

Dated: June 27, 2017.
Ronald K. Lorentzen,
Acting Assistant Secretary for Enforcement and Compliance.

[FR Doc. 2017-13988 Filed 6-29-17; 8:45 am]

BILLING CODE 3510-DS-P